DEPARTMENT OF DEFENSE

Office of the Secretary

32 CFR Parts 59, 62b, 73, 158, 190, 216, 221, 224, 229, 238, 248, 252, 258, 261, 271, 336, 345, 347, 371, 378, and 388

[DOD-2006-OS-0042]

Removal of Parts

AGENCY: Department of Defense.

ACTION: Final rule.

SUMMARY: The Department of Defense is removing several CFR parts from Chapter I, Office of the Secretary of Defense. This administrative action removes obsolete information from the Code of Federal Regulations and notifies readers of the availability of the current DoD documents that contain the information being removed.

DATES: This rule is effective March 10, 2006.

FOR FURTHER INFORMATION CONTACT: L. Bynum 703-696-6970.

SUPPLEMENTARY INFORMATION: The chart below identifies the status of the parts being removed. All documents with a current date status may be found as a DoD Directive (D), DoD Instruction (I), or Administrative Instruction (AI) on the Washington Headquarters Services Web site at http://www.dtic.mil/whs/directives/. Where “removed” is indicated, the applicable DoD document has been removed from the DoD Directives System.

Part No. | Document No. | Canceled by
59 | Voluntary Military Pay Allotments | DoDD 7330.1.
62b | Drunk and Drugged Driving by DoD DoD Personnel | DoDD 1010.7.
73 | Training Simulators and Devices | DoDD 1430.13.
158 | Guidelines for Systematic Declassification Review of Classified Information in Permanently Valuable DoD Records | Removed 1/14/04.
190 | Natural Resources Management Program | Removed 7/20/04.
216 | Military Recruiting and Reserve Officer Training Corps Program Access to Institutions of Higher Education | DoDD 1322.13.
221 | Participation in the National Practitioner Data Bank (NPDB) | DoDD 6025.13.
224 | DoD Committee Management Program | DoDD 5105.18.
229 | Protection of Archaeological Resources: Uniform Regulations | Removed 6/21/04.
238 | Armed Forces Community Relations | DoDI 5410.19.
248 | Department of Defense Periodicals | Removed 12/15/95.
252 | Department of Defense Offshore Military Activities Program | Removed 1/13/05.
258 | Cooperation with Allies in Research and Development of Defense Equipment | DoDD 2010.6.
261 | Armed Services Military Club and Package Stores | DoDD 1015.2.
271 | Obtaining Information from Financial Institutions | Duplicate of Part 275.
336 | Publications of Proposed and Adopted Regulations Affecting the Public | AI 102.
345 | Department of Defense Section 6 Schools | DoDD 1342.20.
347 | Department of Defense Dependents Schools | DoDD 1342.20.
371 | Defense Prisoner of War/Missing in Action Office (DPMO) | DoDD 5110.10.
378 | Assistant to the Secretary of Defense for Intelligence Oversight | DoDD 5148.11.
388 | Ballistic Missile Defense Organization | DoDD 5134.09.

List of Subjects

32 CFR Part 59

Military personnel, Wages.

32 CFR Part 62b

Alcohol abuse, Drug abuse, Government employees, Highway safety, Military personnel.

32 CFR Part 73

Armed forces, Education, Government procurement.

32 CFR Part 158

Classified information.

32 CFR Part 190

Armed forces, Federal buildings and facilities, Natural resources.

32 CFR Part 216

Armed forces, Armed forces reserves, Colleges and universities, Education.

32 CFR Part 221

Health professions, Reporting and recordkeeping requirements.

32 CFR Part 224

Advisory committees.

32 CFR Part 229

Administrative practice and procedure, Historic preservation, Indians—lands, Penalties, Public lands, Reporting and recordkeeping requirements.

32 CFR Part 238

Armed forces, Intergovernmental relations.

32 CFR Part 248

Armed forces, Government publications.

32 CFR Part 252

Armed forces, Continental shelf.

32 CFR Part 258

Foreign relations, National defense, Research.

32 CFR Part 261

Alcohol and alcoholic beverages, Armed forces, Concessions, Federal buildings and facilities.

32 CFR Part 271

Banks, banking, Credit, Privacy.

32 CFR Part 336

Administrative practice and procedure.

32 CFR Parts 345 and 347

Elementary and secondary education, Organization and functions (Government agencies).

32 CFR Parts 371, 378, and 388

Organization and functions (Government agencies).

PARTS 59, 62b, 73, 158, 190, 216, 221, 224, 229, 238, 248, 252, 258, 261, 271, 336, 345, 347, 371, 378, and 388—[REMOVED]

Accordingly, by the authority of 10 U.S.C. 301, 32 CFR parts 59, 62b, 73, 158, 190, 216, 221, 224, 229, 238, 248, 252, 258, 261, 271, 336, 345, 347, 371, 378, and 388 are removed.

Dated: March 6, 2006.
L.M. Bynum,
Alternate OSD Federal Register Liaison Officer, Department of Defense.

[FR Doc. 06-2310 Filed 3-9-06; 8:45 am]

BILLING CODE 5001-08-P